DEPARTMENT OF TRANSPORTATION

Pipeline and Hazardous Materials Safety Administration

Office of Hazardous Materials Safety; Notice of Applications for Modification of Special Permit

AGENCY: Pipeline and Hazardous Materials Safety Administration (PHMSA), DOT.

ACTION: List of Applications for Modification of Special Permit.

SUMMARY: In accordance with the procedures governing the application for, and the processing of, special permits from the Department of Transportation's Hazardous Material Regulations (49 CFR Part 107, Subpart B), notice is hereby given that the Office of Hazardous Materials Safety has received the application described herein. This notice is abbreviated to expedite docketing and public notice. Because the sections affected, modes of transportation, and the nature of application have been shown in earlier Federal Register publications, they are not repeated here. Request of modifications of special permits (e.g. to provide for additional hazardous materials, packaging design changes, additional mode of transportation, etc.) are described in footnotes to the application number. Application numbers with the suffix “M” demote a modification request. There applications have been separated from the new application for special permits to facilitate processing.

DATES: Comments must be received on or before January 2, 2008.

ADDRESSES: Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://dms.dot.gov.

This notice of receipt of applications for modification of special permit is published in accordance with Part 107 of the Federal hazardous materials transportation law (49 U.S.C. 5117(b); 49 CFR 1.53(b)).

Issued in Washington, DC, on December 12, 2007.
Delmer F. Billings,
Director, Office of Hazardous Materials, Special Permits and Approvals.

Modification Special Permits
Application No. | Docket No. | Applicant | Regulation(s) affected | Nature of special permit thereof
7954-M |  | Air Products & Chemicals, Inc., Allentown, PA | 49 CFR 173.301(d)(2); 173.302(a)(3) | To modify the special permit to authorize the transportation in commerce of an additional Division 2.3 gas in 3T cylinders.
10232-M |  | ITW Sexton (Former Grantee: Sexton Can Company, Inc.), Decatur, AL | 49 CFR 173.304 | To modify the special permit to authorize a capacity increase to 61 cubic inches of the non-refillable, non-DOT specification container for the transportation of Division 2.2 materials.
11513-M |  | ATK Launch Systems Inc. (Former Grantee: ATK Thiokol, Inc.), Brigham City, UT | 49 CFR 172.101, 173.52, 173.54 | To modify the special permit to authorize the use of static free plastic dividers instead of individual static free inner packagings.
11526-M |  | BOC Gases | 49 CFR 172.302(c), (2), (3), (4), (5); 173.34(e)(1), (3), (4), (8); 173.34(15)(vi) | To modify the special permit to authorize larger cylinders.
11984-M | RSPA-3173 | American Airlines, Inc. (formerly ATA), Tulsa, OK | 49 CFR 172.102(c)(1) special provision 60 | To modify the special permit to clarify that one safety device is necessary to prevent actuation and to clarify the packaging requirements.
12102-M | RSPA-4005 | Veolia ES Technical Solutions, L.L.C., Flanders, NJ | 49 CFR 173.56(i); 173.56(b) | To modify the special permit to authorize transportation by common or contract carrier of an additional Class 1 explosive material desensitized by wetting with water, alcohol or other suitable diluent so as to eliminate their explosive properties.
12405-M | RSPA-6766 | Air Products & Chemicals, Inc., Allentown, PA | 49 CFR 173.304(a)(2); 173.304(b) | To modify the special permit to make it consistent with other similar special permits regarding marking tube trailers.
12562-M | RSPA-8306 | Taeyang Industrial Company Ltd., Cheonan-City | 49 CFR 173.304(d)(3)(ii) | To modify the special permit to authorize an additional Division 2.2 hazardous material.
13107-M | RSPA-13276 | Sensors, Inc., Saline, MI | 49 CFR 172 Subparts C and G | To modify the special permit to authorize the discharge of a Division 2.1 material from an authorized DOT specification cylinder without removing the cylinder from the vehicle on which it is transported.
13599-M | RSPA-18712 | Air Products & Chemicals Inc., Allentown, PA | 49 CFR 173.304a(a)(2) | To modify the special permit to authorize an increase in fill densities/ratios for the DOT Specification seamless steel cylinders transporting a Division 2.2 material.
14167-M | PHMSA-20669 | Trinityrail, Dallas, TX | 49 CFR 173.26, 173.314(c), 179.13 and 179.100-12(c) | To modify the special permit to authorize an additional Division 6.1 hazardous material.
14419-M |  | Voltaix, North Branch, NJ | 49 CFR 173.181(a) | To modify the special permit to authorize an increase in cylinder capacity.
14510-M | PHMSA-28186 | Clean Earth Systems, Inc., Tampa, FL | 49 CFR 173.12(b), 173.12(b)(2)(i) | To modify the special permit to authorize the transportation in commerce by motor vehicle of certain hazardous materials in larger UN4G fiberboard boxes lined with polyethylene.
14563-M | PHMSA-29093 | The Procter & Gamble Distributing LLC, Cincinnati, OH | 49 CFR 171.8 and 173.306(a)(3) | To modify the special permit to extend the date for the one-time, one-way, transportation in commerce of certain non-DOT specification metal receptacles containing Division 2.1 material as Consumer commodity, ORM-D by motor vehicle for disposal only.

[FR Doc. 07-6079 Filed 12-17-07; 8:45 am]

BILLING CODE 4909-60-M